NATIONAL ARCHIVES AND RECORDS ADMINISTRATION

[NARA-24-0021; NARA-2024-056]

Records Schedules; Notice of Withdrawal

AGENCY: National Archives and Records Administration (NARA).

ACTION: Notice; withdrawal.

SUMMARY: On October 1, 2024, the National Archives and Records Administration (NARA) published a Federal Register notice to allow public comment on the records schedules listed at the end of this notice. The notice is hereby withdrawn.

DATES: The document published at 89 FR 79966 on October 1, 2024, is withdrawn as of October 9, 2024.

FOR FURTHER INFORMATION CONTACT: Kimberly Richardson, Strategy and Performance Division, by email at regulation_comments@nara.gov. For information about records schedules, contact Records Management Operations by email at request.schedule@nara.gov or by phone at 301-837-1799.

SUPPLEMENTARY INFORMATION:

Public Comment Procedures

We publish notice of records schedules in which agencies propose to dispose of records they no longer need to conduct agency business. We invite public comments on these records schedules, as required by 44 U.S.C. 3303a(a), and list the schedules at the end of this notice by agency and subdivision requesting disposition authority.

When the records schedule notice was published on October 1, 2024, at 89 FR 79966, the link to the URL for the regulations.gov docket for the schedules was incorrect. Due to this clerical error, the notice will be withdrawn and the schedules will be reposted as soon as possible in a new notice, allowing the full 45-day comment period for the public to submit comments.

Schedules Withdrawn

1. Department of Energy, Southeastern Power Administration, Environmental Retention Program (DAA-0388-2024-0007).

2. Department of Health and Human Services, Administration for Strategic Preparedness and Response, Medical Countermeasures (DAA-0611-2023-0003).

3. Department of Justice, Office of the Deputy Attorney General, Justice Manual Records (DAA-0060-2024-0016).

4. Export-Import Bank of the United States, Agency-wide, Records of the Office of the Inspector General (DAA-0275-2024-0001).

5. Library of Congress, Agency-wide, Library Archives and Research 2024 updates (DAA-0297-2024-0008).

6. Library of Congress, Agency-wide, Outreach 2024 Updates (DAA-0297-2024-0009).

William P. Fischer,
Acting Chief Records Officer for the U.S. Government.

[FR Doc. 2024-23329 Filed 10-8-24; 8:45 am]

BILLING CODE 7515-01-P